DEPARTMENT OF THE INTERIOR

Bureau of Land Management

[NV-952-07-1420-BJ]

Filing of Plats of Survey; Nevada

AGENCY: Bureau of Land Management, Interior.

ACTION: Notice.

SUMMARY: The purpose of this notice is to inform the public and interested State and local government officials of the filing of Plats of Survey in Nevada.

DATES: Effective Dates: Filing is effective at 10 a.m. on the date indicated below.

FOR FURTHER INFORMATION CONTACT: David D. Morlan, Chief, Branch of Geographic Sciences, Bureau of Land Management (BLM), Nevada State Office, 1340 Financial Blvd., P.O. Box 12000, Reno, Nevada 89520, 775-861-6541.

SUPPLEMENTARY INFORMATION: 1. The Plats of Survey of the following described lands were officially filed at the Nevada State Office, Reno, Nevada, on November 30, 2006:

The plat, representing the dependent resurvey of a portion of the west boundary and a portion of the subdivisional lines, and a metes-and-bounds survey of a portion of U.S. Highway No. 93, Township 11 South, Range 63 East, Mount Diablo Meridian, Nevada, under Group No. 824, was accepted November 28, 2006.

The plat, in four (4) sheets, representing the dependent resurvey of the east boundary, portions of the west and north boundaries and a portion of the subdivisional lines, a metes-and-bounds survey of a portion of U.S. Highway No. 93, and a metes-and-bounds survey through sections 24, 25 and 36, Township 12 South, Range 63 East, Mount Diablo Meridian, Nevada, under Group No. 824, was accepted November 28, 2006.

These surveys were executed to meet certain administrative needs of the Bureau of Land Management.

2. The Plat of Survey of the following described lands was officially filed at the Nevada State Office, Reno, Nevada, on December 12, 2006.

The plat representing the dependent resurvey of a portion of the subdivisional lines, the subdivision of section 16, and metes-and-bounds surveys in section 16, Township 35 North, Range 37 East, Mount Diablo Meridian, Nevada, under Group No. 835, was accepted December 8, 2006.

This survey was executed to meet certain administrative needs of the Bureau of Land Management.

3. The above-listed surveys are now the basic record for describing the lands for all authorized purposes. These surveys have been placed in the open files in the BLM Nevada State Office and are available to the public as a matter of information. Copies of the surveys may be furnished to the public upon payment of the appropriate fees.

Dated: January 19, 2007.
David D. Morlan,
Chief Cadastral Surveyor, Nevada.

[FR Doc. E7-1574 Filed 1-31-07; 8:45 am]

BILLING CODE 4310-HC-P